DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than June 15, 2015.

ADDRESSES: Submit your comments to paperwork@hrsa.gov or mail the HRSA Information Collection Clearance Officer, Room 10C-03, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Maternal, Infant, and Early Childhood Home Visiting (Home Visiting) Program, Competitive Funding Opportunity Announcement OMB No. 0915-0351—Extension

Abstract: The Home Visiting Program, administered by HRSA in close partnership with the Administration for Children and Families (ACF), supports voluntary, evidence-based home visiting services during pregnancy and to parents with young children up to kindergarten entry. All fifty (50) states, the District of Columbia, five U.S. territories, and eligible nonprofit organizations are eligible for Home Visiting Competitive Funding.

Need and Proposed Use of the Information: The purpose of this announcement is to solicit applications for the fiscal year 2016 (FY16) Home Visiting Competitive Grant program. The Competitive Grants provide funds to eligible entities that are states and certain territories that continue to make significant progress toward implementing a high-quality home visiting program as part of a comprehensive, high-quality early childhood system and are ready and able to take effective programs to scale to address unmet need. Grantees will use the funds to provide ongoing support to high-quality evidence-based home visiting programs and for the incremental expansion of evidence-based home visiting programs funded to achieve greater enrollment and retention of families eligible for home visiting. Additionally, this funding opportunity will continue the program's emphasis on rigorous research by grounding the proposed work in relevant empirical literature and by including requirements to evaluate work proposed under this grant.

Likely Respondents: Applicants to the FY16 Home Visiting Competitive Funding Opportunity Announcement.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Summary progress on the following activities | Number of respondents | Number of responses per respondent | Total responses | Hours per response | Total burden hours
Introduction | 47 | 1 | 47 | 10 | 470
Needs Assessment | 47 | 1 | 47 | 14 | 658
Methodology | 47 | 1 | 47 | 15 | 705
Work plan | 47 | 1 | 47 | 15 | 705
Resolution of Challenges | 47 | 1 | 47 | 14 | 658
Evaluation and Technical Support Capacity | 47 | 1 | 47 | 48 | 2256
Organizational Information | 47 | 1 | 47 | 10 | 470
Additional Attachments | 47 | 1 | 47 | 13 | 611
Total | 376 | 8 | 376 | 139 | 6533

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2015-08485 Filed 4-13-15; 8:45 am]

BILLING CODE 4165-15-P